DEPARTMENT OF AGRICULTURE

Submission for OMB Review; Comment Request

April 17, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Study of the Food Distribution Program on Indian Reservation (FDPIR).

OMB Control Number: 0584-NEW.

Summary of Collection: The Food Distribution Program on Indian Reservation (FDPIR) provides USDA foods to low-income households living on Indian reservations and to American Indians residing in designated areas near reservations or in the State of Oklahoma. FDPIR is administered as the Federal level by the Food and Nutrition Service (FNS) of the U.S. Department of Agriculture, and administered locally by either Indian Tribal Organizations (ITOs) or an agency of a State government. FNS is seeking an updated description of FDPIR participants and programs, and a better understanding of why FDPIR participation has been declining. This study will provide national estimates of participating households as well as estimates for large subgroups, such as households with elderly participants.

Need and Use of the Information: The study is needed to inform FNS decision-making regarding FDPIR program administration and to identify ways to make the program more beneficial to participants. It will provide current information on the characteristics of participants and local program administration across the nation. Information on perceptions about the program and potential access barriers will also be obtained to identify reasons for declining national participation. This information is critical to FNS' ongoing assessment of the FDPIR program, and for identifying appropriate future measures that can be put in place to enhance this program.

Description of Respondents: Individuals or households; State, Local, or Tribal Government.

Number of Respondents: 1,554.

Frequency of Responses: Reporting: Other (once).

Total Burden Hours: 1,468.

Food and Nutrition Service

Title: Performance Reporting System, Management Evaluation.

OMB Control Number: 0584-0010.

Summary of Collection: The purpose of the Performance Reporting System is to ensure that each State agency and project area is operating the Supplemental Nutrition Assistance Program (SNAP) in accordance with the Act, regulations, and the State agency's Plan of Operation. Section 11 of the Food and Nutrition Act (the Act) of 2008 requires that State agencies maintain necessary records to ascertain that SNAP is operating in compliance with the Act and regulations and must make these records available to the Food and Nutrition Service (FNS) for inspection.

Need and Use of the Information: FNS will use the information to evaluate state agency operations and to collect information that is necessary to develop solutions to improve the State's administration of SNAP policy and procedures. Each State agency is required to submit one review schedule every one, two, or three years, depending on the project areas make-up of the state.

Description of Respondents: State, Local, or Tribal Government.

Number of Respondents: 53.

Frequency of Responses: Recordkeeping; Reporting: Annually.

Total Burden Hours: 490,832.

Food and Nutrition Service

Title: 7 CFR Part 235 State Administrative Expense Funds.

OMB Control Number: 0584-0067.

Summary of Collection: Section 7 of the Child Nutrition Act of 1966 (Pub. L. 89-642), 42 U.S.C. 1776, authorizes the Department to provide Federal funds to State agencies (SAs) for administering the Child Nutrition Program (7 CFR parts 210, 215, 220, 226, and 250). State Administrative Expense Funds (SAE), 7 CFR parts 235, sets forth procedures and recordkeeping requirements for use by SAs in reporting and maintaining records of their needs and uses of SAE funds. The Food and Nutrition Service (FNS) will collect information using forms FNS-74, FNS-525, and FNS-777.

Need and Use of the Information: FNS request each State submit to the Secretary for approval by October 1 of the initial fiscal year a plan for the use of SAE funds including a staff formula for State personnel, system level supervisory and operating personnel, and school level personnel. The information is collected for the purpose of administering an ongoing program. Without the information FNS would not be able to monitor the SAE funds in accordance to 7 CFR part 235.

Description of Respondents: State, Local or Tribal Government.

Number of Respondents: 87.

Frequency of Responses: Recordkeeping; Reporting: Annually.

Total Burden Hours: 13,548.

Ruth Brown,
Departmental Information Collection Clearance Officer.

[FR Doc. 2013-09378 Filed 4-19-13; 8:45 am]

BILLING CODE 3410-30-P